DEPARTMENT OF ENERGY

Federal Energy Regulatory Commission

[Docket No. RP00-594-000]

Young Gas Storage Company, Ltd.; Notice of Tariff Filing

October 3, 2000.

Take notice that on September 29, 2000, Young Gas Storage Company, Ltd. (Young), tendered for filing to become part of its FERC Gas Tariff, Original Volume No. 1, the tariff sheets listed in Appendix A to the filing, to be effective March 27, 2000.

Young states these tariff sheets reflect the change in Right-of-First Refusal provisions permitted by the Commission's Order No. 637, 737A and 637B (collectively referred to as Order No. 637). Specifically, effective on or after March 27, 2000, the firm shipper's contract must be for service for twelve consecutive months or more at the applicable maximum rate for that service, except that a contract for more than one year, for a service which is not available for twelve consecutive months would also be subject to the Right-of-First Refusal. Young also states it is making a clarification concerning incremental rates.

Young further states that copies of this filing have been served on Young's jurisdictional customers and public bodies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25852 Filed 10-6-00; 8:45 am]

BILLING CODE 6717-01-M